DEPARTMENT OF HEALTH AND HUMAN SERVICES

Substance Abuse and Mental Health Services Administration

Notice of a Meeting

Pursuant to Public Law 92-463, notice is hereby given of a meeting of the Substance Abuse and Mental Health Services Administration (SAMHSA) National Advisory Council on March 7-8, 2007.

The meeting is open to the public and will include a report from the newly appointed SAMHSA Administrator, Dr. Terry L. Cline; a presentation on the National Registry of Evidence-Based Programs and Practices; an update on recent epidemiological data on methamphetamine use; and a presentation on SAMHSA's Workforce Development activities.

Attendance by the public will be limited to the space available. Public comments are welcome. Please communicate with the Council's Executive Secretary, Ms. Toian Vaughn (see contact information below), to make arrangements to comment or to request special accommodations for persons with disabilities.

Substantive program information, a summary of the meeting, and a roster of Council members may be obtained either by accessing the SAMHSA Committee's Web site at https://www.nac.samhsa.gov/nac.aspx as soon as possible after the meeting, or by contacting Ms. Vaughn. The transcript for the meeting will also be available on the SAMHSA Committee's Web site within three weeks after the meeting.

Committee Name: SAMHSA National Advisory Council.

Date/Time/Type: Wednesday, March 7, 2007, from 9 a.m. to 5 p.m.: Open. Thursday, March 8, 2007, from 9 a.m. to 12 p.m.: Open.

Place: 1 Choke Cherry Road, Sugarloaf and Seneca Conference Rooms, Rockville, Maryland 20857.

Contact: Toian Vaughn, Executive Secretary, SAMHSA National Advisory Council and SAMHSA Committee Management Officer, 1 Choke Cherry Road, Room 8-1089, Rockville, Maryland 20857, Telephone: (240) 276-2307; FAX: (240) 276-2220 and E-mail: toian.vaughn@samhsa.hhs.gov.

Dated: February 16, 2007.
Toian Vaughn,
Executive Secretary, SAMHSA National Advisory Council and SAMHSA Committee Management Officer.

[FR Doc. E7-3105 Filed 2-22-07; 8:45 am]

BILLING CODE 4162-20-P